DEPARTMENT OF ENERGY

Federal Energy Regulatory Commission

[CP10-12-000]

Florida Gas Transmission Company, LLC; Notice of Request Under Blanket Authorization

November 9, 2009.

Take notice that on October 29, 2009, Florida Gas Transmission Company, LLC (Florida Gas), filed in Docket No. CP10-12-000, a prior notice request pursuant to Sections 157.205 and 157.208 of the Commission's regulations under the Natural Gas Act (NGA), for authorization to replace, upgrade, and relocate sections of its St. Petersburg and Clearwater South Latersals, and Block Valve 24-10, located in Pinellas County, Florida, all as more fully set forth in the application which is on file with the Commission and open to public inspection. Florida Gas and proposes to perform these activities under its blanket certificate issued November 10, 1982, in Docket No. CP82-553-000 [21 FERC ¶ 62,235 (1982)].

Specifically, FGT proposes to relocate approximately 2.6 miles of existing 10- and 12-inch sections of the St. Petersburg Lateral, including upgrading a portion of the 10-inch section to a 12-inch section; relocate, upgrade and replace BV 24-10; and relocate approximately 444-feet of an existing 4-inch section of the Clearwater South Lateral, all of which are located in Pinellas County, Florida. The FGT pipeline modifications are required to accommodate Florida Department of Transportation (“FDOT”) road improvement projects. FGT estimates the cost of construction to be $19.5 million.

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application may be directed to Stephen Veatch, Senior Director of Certificates & Tariffs, Florida Gas Transmission Company, LLC, 5444 Westheimer Road, Houston, Texas, 77056, or call (713) 989-2024, or fax (713) 989-1158, or by e-mail stephen.veatch@SUG.com.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a)(1)(iii) and the instructions on the Commission's web site (http://www.ferc.gov) under the “e-Filing” link. Persons unable to file electronically should submit an original and 14 copies of the protest or intervention to the Federal Energy regulatory Commission, 888 First Street, NE., Washington, DC 20426.

Nathaniel J. Davis, Sr.,
Deputy Secretary.

[FR Doc. E9-27476 Filed 11-16-09; 8:45 am]

BILLING CODE 6717-01-P